DEPARTMENT OF LABOR

Office of the Secretary

Submission for OMB Review; Comment Request

December 9, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by contacting the Department of Labor. To obtain documentation, contact Darrin King on 202-693-4129 (this is not a toll-free number) or E-Mail: king-darrin@dol.gov.

Comments should be sent to Office of Information and Regulatory Affairs, Attn: OMB Desk Officer for the Office of Disability Employment Policy (ODEP), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Disability Employment Policy.

Type of Review: New collection.

Title: National Survey of Sub-minimum Wage (14c) Certificate Recipients.

OMB Number: 1230-0NEW.

Affected Public: Not-for-profit institutions.

Type of Response: Reporting.

Frequency: One time.

Number of Respondents: 341.

Number of Annual Responses: 341.

Estimated Time Per Response: 30 minutes.

Total Burden Hours: 171.

Total Annualized Capital/Startup Costs: $0.

Total Annual costs (operating/maintaining systems or purchasing services): $0.

Description: The data collected from this survey will provide descriptive information on the current use of Fair Labor Standards Act (FLSA) section 14(c) Special Wage Certificates by Community Rehabilitation Programs in the United States. Specifically, the survey will look at perceived organizational barriers to achieving competitive employment outcomes for individuals with significant disabilities. This will include organizations' perceived training and resource needs related to moving their programs from FLSA section 14(c) to integrated employment outcomes. The information generated by the survey will be used by ODEP for policy analysis and subsequent policy development and recommendations. In addition, Training and Technical Assistance for Providers (T-TAP) will use the information to design and disseminate resources and training materials as well as provide technical assistance to Community Rehabilitation Programs (CRP). Part of disseminating this information will include writing journal articles, fact sheets, online seminars and web postings, conference presentations, or other literature that can be used by ODEP, T-TAP, CRPs, organizations, and others interested in facilitating competitive employment for individuals with disabilities.

Ira Mills,
Departmental Clearance Officer.

[FR Doc. 03-31199 Filed 12-17-03; 8:45 am]

BILLING CODE 4510-LX-M